INTERNATIONAL TRADE COMMISSION

[Investigation No. 337-TA-1322]

Certain Rotating 3-D LiDAR Devices, Components Thereof, and Sensing Systems Containing the Same; Notice of a Commission Determination Not To Review an Initial Determination Terminating the Investigation Based on Withdrawal of the Complaint; Termination of Investigation

AGENCY: U.S. International Trade Commission.

ACTION: Notice.

SUMMARY: Notice is hereby given that the U.S. International Trade Commission (“Commission”) has determined not to review an initial determination (“ID”) (Order No. 10) of the presiding administrative law judge (“ALJ”), terminating the investigation in its entirety based on withdrawal of the complaint. The investigation is terminated.

FOR FURTHER INFORMATION CONTACT: Benjamin S. Richards, Esq., Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on July 22, 2022. 87 FR 43895 (July 22, 2022). The complaint, as supplemented, alleges violations of section 337 of the Tariff Act of 1930, as amended, 19 U.S.C. 1337, in the importation into the United States, the sale for importation, or the sale within the United States after importation of certain rotating 3-D LiDAR devices, components thereof, and sensing systems containing the same by reason of infringement of certain claims of U.S. Patent No. 7,969,558 and U.S. Patent No. 9,983,297. Id. The complaint further alleges that a domestic industry exists. Id. The Commission's notice of investigation named as respondents Ouster, Inc. of San Francisco, CA and Benchmark Electronics, Inc. of Tempe, AZ. Id. at 43896. The complainant is Velodyne Lidar USA, Inc. of San Jose, CA (“Velodyne”). Id. The Office of Unfair Import Investigations is participating in the investigation. Id.

On December 8, 2022, the ALJ issued the subject ID, which granted Velodyne's unopposed motion to terminate this investigation in its entirety based on its withdrawal of the complaint. The ALJ found that Velodyne's motion complied with the requirements of Commission Rule 210.21(a)(1) and that no extraordinary circumstances warranted denying the motion. No petitions for review of the ID were filed.

The Commission has determined not to review the subject ID.

The investigation is hereby terminated in its entirety.

The Commission vote for this determination took place on January 9, 2023.

The authority for the Commission's determination is contained in section 337 of the Tariff Act of 1930, as amended (19 U.S.C. 1337), and in Part 210 of the Commission's Rules of Practice and Procedure (19 CFR part 210).

By order of the Commission.
Issued: January 10, 2023.
Katherine Hiner,
Acting Secretary to the Commission.

[FR Doc. 2023-00584 Filed 1-12-23; 8:45 am]

BILLING CODE 7020-02-P